DEPARTMENT OF TRANSPORTATION

National Highway Traffic Safety Administration

[Docket No. NHTSA 2000-8090; Notice 1]

Honda Motor Company, Ltd.; Receipt of Application for Temporary Exemption From Federal Motor Vehicle Safety Standard No. 122

American Honda Motor Co., Inc., of Torrance, California (“Honda”), on behalf of Honda Motor Company, Ltd., of Japan, has applied for a temporary exemption from the fade and water recovery requirements of Federal Motor Vehicle Safety Standard No. 122 Motorcycle Brake Systems. The basis of the application is that an exemption would make easier the development or field evaluation of a new motor vehicle safety feature providing a safety level at least equal to the safety level of the standard.

This notice of receipt of an application is published in accordance with the requirements of 49 U.S.C. 30113(b)(2) and does not represent any judgment of the agency on the merits of the application.

Honda seeks an exemption of one year for its 2001 CBR1100XX motorcycle “from the requirement of the minimum hand-lever force of five pounds in the base line check for the fade and water recovery tests.” Honda has previously received exemptions totaling three years from this requirement for the 1998-2000 model year CBR1100XX (See Docket No. 93-47). The brake system of the 2001 model is said to be identical to the system on vehicles previously exempted. In 1997, Honda filed a petition for rulemaking to amend Standard No. 122 to accommodate the braking system of the CBR1100XX. NHTSA granted the petition and published a Notice of Proposed Rulemaking on November 17, 1999 (64 FR 62622); however, a final rule had not been issued as of September 1, 2000, when its exemption expired.

Honda has been evaluating the marketability of a motorcycle brake system setting which is currently applied to the model sold in Europe, and has sold 3,600 exempted motorcycles as of the date of its application. The difference in setting is limited to a softer master cylinder return spring in the European version. As Honda said in its initial application in 1997, using the softer spring results in a “more predictable (linear) feeling during initial brake lever application.” Although “the change allows a more predictable rise in brake gain, the on-set of braking occurs at lever forces slightly below the five pound minimum” specified in Standard No. 122. If on-set of braking is delayed until the five pound minimum is reached, a feeling results that the brakes come on suddenly or unpredictably. Honda considers that motorcycle brake systems have continued to evolve and improve since Standard No. 122 was adopted in 1972, and that one area of improvement is brake lever force which has gradually been reduced. However, the five-pound minimum specification “is preventing further development and improvement” of brake system characteristics. Honda reports that many who try the system “feel that they have more control with independent front and rear brake systems,” and that “The European version setting has shown greater consumer acceptance.”

The CBR1100XX is equipped with Honda's Linked Brake System (LBS) which is designed to engage both front and rear brakes when either the front brake lever or the rear brake pedal is used. The LBS differs from other integrated systems in that it allows the rider to choose which wheel gets the majority of braking force, depending on which brake control the rider uses.

According to Honda, the overall braking performance remains unchanged from a conforming motorcycle and from Honda cycles previously exempted. If the CBR1100XX is exempted it will meet “the stopping distance requirement but at lever forces slightly below the minimum.”

While Honda's application did not cite applicable sections of Standard No. 122, its previous applications asked for relief from the first sentence of S6.10 Brake application forces, which reads:

Except for the requirements of the fifth recovery stop in S5.4.3 and S5.7.2 (S7.6.3 and S7.10.2) the hand lever force is not less than five and not more than 55 pounds and the foot pedal force is not less than 10 and not more than 90 pounds.

However, NHTSA determined that Honda required relief from different provisions of Standard No. 122, although S6.10 related to them. Paragraph S6 only sets forth the test conditions under which a motorcycle must meet the performance requirements of S5. A motorcycle manufacturer certifies compliance with the performance requirements of S5 on the basis of tests conducted according to the conditions of S6 and in the manner specified by S7. In short, NHTSA provided relief from the performance requirements of S5 that are based upon the lever actuation force test conditions of S6.10 as used in the test procedures of S7.

These relate to the baseline checks under which performance is judged for the service brake system fade and fade recovery tests (S5.4), and for the water recovery tests (S5.7). According to the test procedures of S7, the baseline check stops for fade (S7.6.1) and water recovery (S7.10.1) are to be made at 10 to 11 feet per second per second (fpsps) per stop. The fade recovery test (S7.6.3) also specifies stops at 10 to 11 fpsps. Test data submitted by Honda with its 1997 application, and which it has incorporated by reference in its 2000 application, show that, using a hand lever force of 2.3 kg (5.1 pounds), the deceleration for these stops is 3.05 to 3.35 meters per second per second, or 10.0 to 11.0 fpsps. This does not mean that Honda cannot comply under the strict parameters of the standard, but the system is designed for responsive performance when a hand lever force of less than five pounds is used. For these reasons, NHTSA interprets Honda's application as requesting relief from S5.4.2, S5.4.3, and S5.7.2.

Honda argues that granting an exemption would be in the public interest and consistent with objectives of traffic safety because it

* * * should improve a rider's ability to precisely modulate the brake force at low-level brake lever input forces.

Improving the predictability, even at very low-level brake lever input, increases the rider's confidence in the motorcycle's brake system. We feel that improvements in braking, even those of an incremental nature, are in the public's interest and consistent with the objectives of the National Traffic and Motor Vehicle Safety Act.

Interested persons are invited to submit comments on the application described above. Comments should refer to the docket number and the notice number, and be submitted to: Docket Management, Room PL-401, s40 Seventh Street, SW., Washington, DC 20590. It is requested but not required that 10 copies be submitted.

All comments received before the close of business on the comment closing date indicated below will be considered, and will be available for examination in the docket at the above address both before and after that date. To the extent possible, comments filed after the closing date will also be considered. Notice of final action on the application will be published in the Federal Register pursuant to the authority indicated below. Comment closing date: November 24, 2000.

Authority: 49 U.S.C. 30113; delegations of authority at 49 CFR 1.50. and 501.8.

Issued on October 12, 2000.
Stephen R. Kratzke,
Associate Administrator for Safety Performance Standards.

[FR Doc. 00-26817 Filed 10-24-00; 8:45 am]

BILLING CODE 4910-59-P